DEPARTMENT OF ENERGY

Federal Energy Regulatory Commission

[Docket No. CP00-417-000]

Columbia Natural Resources, Inc.; Notice of Petition for Declaratory Order

August 4, 2000.

Take notice that on July 26, 2000, Columbia Natural Resources, Inc. (CNR), P.O. Box 6070, Charleston, West Virginia 25362-0070, filed in Docket No. CP00-417-000 a petition pursuant to section 1(b) of the Natural Gas Act (NGA) for a declaratory order exempting facilities to be acquired from Columbia Gas Transmission Corporation (Columbia) from Commission regulation under the NGA, as more fully set forth in the application which is on file with the Commission and open to public inspection. This filing may be viewed on the web at http://www.ferc.fed.us/online/htm (call 202-208-2222 for assistance).

CNR proposes to purchase from Columbia facilities consisting of approximately 16.3 miles of 20-inch pipeline located in Hocking and Fairfield Counties, Ohio, for use in CNR's gathering operations. Columbia has filed an application to abandon the facilities by sale to CNR in Docket No. CP00-416-000. It is asserted that Columbia has been using the facilities for gathering gas on behalf of local producers and making deliveries to customers. It is further asserted that CNR will continue to use the facilities to gather gas and will provide substitute nonjurisdictional alternatives to the service provided by Columbia. It is explained that CNR is not a natural gas company subject to the Commission's jurisdiction and that the facilities meet the Commission's criteria for a finding of a nonjurisdictional gathering function.

Any questions regarding the application may be directed to Jo Ellen Diehl Yeary, Counsel and Assistant Secretary, at (304) 353-5166.

Any person desiring to be heard or to make any protest with reference to said application should, on or before August 25, 2000, file with the Federal Energy Regulatory Commission, 888 First Street, NE., Washington, DC 20426, a motion to intervene or a protest in accordance with the requirements of the Commission's Rules of Practice and Procedure (18 CFR 385.214 or 385.211) and the Regulations under the NGA. All protests filed with the Commission will be considered by it in determining the appropriate action to be taken but will not serve to make the protestants parties to the proceeding. Any person wishing to become a party to a proceeding or to participate as a party in any hearing therein must file a motion to intervene in accordance with the Commission's Rules.

David P. Boergers,
Secretary.

[FR Doc. 00-20265 Filed 8-9-00; 8:45 am]

BILLING CODE 6717-01-M